DEPARTMENT OF LABOR

Employment and Training Administration

[TA-W-53,690]

Learjet, Inc., Tucson Completion Center Including Leased Workers of Adecco Technical, ATSI, CDI, Design Support Services, JIT, PDS, Smart, Strom and TAD Technical, Tucson, Arizona; Amended Certification Regarding Eligibility to Apply for Worker Adjustment Assistance

In accordance with section 223 of the Trade Act of 1974 (19 U.S.C. 2273) the Department of Labor issued a Certification of Eligibility to Apply for Worker Adjustment Assistance on January 8, 2004, applicable to workers of Learjet, Inc., Tucson Completion Center, Tucson, Arizona. The notice will be published soon in the Federal Register.

At the request of the State agency, the Department reviewed the certification for workers of the subject firm. New information shows that leased workers of Adecco Technical, ATSI, CDI, Design Support Services, JIT, PDS, Smart, Strom and TAD Technical were employed at Learjet, Inc., Tucson Completion Center at the Tucson, Arizona location of the subject firm.

Based on these findings, the Department is amending this certification to include leased workers of Adecco Technical, ATSI, CDI, Design Support Services, JIT, PDS, Smart, Strom and TAD Technical working at Learjet, Inc., Tucson Completion Center, Tucson, Arizona.

The intent of the Department's certification is to include all workers of Learjet, Inc., Tucson Completion Center who were adversely affected by the shift in production to Canada.

The amended notice applicable to TA-W-53,690 is hereby issued as follows:

All workers of Learjet, Inc., Tucson Completion Center, and leased workers of Adecco Technical, ATSI, CDI, Design Support Services, JIT, PDS, Smart, Strom and TAD Technical, Tucson, Arizona, who became totally or partially separated from employment on or after November 26, 2002, through January 8, 2006, are eligible to apply for adjustment assistance under section 223 of the Trade Act of 1974.

Signed at Washington, DC this 17th day of March 2004.
Richard Church,
Certifying Officer, Division of Trade Adjustment Assistance.

[FR Doc. 04-7591 Filed 4-2-04; 8:45 am]

BILLING CODE 4510-30-P